DEPARTMENT OF LABOR

Employment and Training Administration

[TA-W-65,352]

Orhan North America, Inc.; Rochester Hills, MI; Notice of Termination of Investigation

Pursuant to Section 221 of the Trade Act of 1974, as amended, an investigation was initiated on February 24, 2009 in response to a worker petition filed by a company official on behalf of workers of Orhan North America, Inc., Rochester Hills, Michigan.

The intent of the petitioner was to cover workers of the firm in Paris, Tennessee. The petitioning group of workers is covered by an active certification (TA-W-65,363), which does not expire until April 2, 2011. Consequently, further investigation in this case would serve no purpose, and the investigation has been terminated.

Signed at Washington, DC, this 6th day of April 2009.
Linda G. Poole,
Certifying Officer, Division of Trade Adjustment Assistance.

[FR Doc. E9-10574 Filed 5-6-09; 8:45 am]

BILLING CODE 4510-FN-P